RAILROAD RETIREMENT BOARD

Privacy Act of 1974; System of Records

AGENCY: United States Railroad Retirement Board (RRB).

ACTION: Notice of a modified system of records.

SUMMARY: RRB-42, Overpayment Accounts is used to maintain records related to overpayments.

DATES: This system of records notice (SORN) will become effective upon its publication, except for the routine uses that have been modified as part of this modification, which will be effective at the end of a public comment period of 30 days from the date of publication. Please submit written comments on or before January 5, 2026.

ADDRESSES: Interested parties may comment on this publication by writing to Ms. Stephanie Hillyard, Secretary to the Board, U.S. Railroad Retirement Board, 844 North Rush Street, Chicago, Illinois 60611-1275.

FOR FURTHER INFORMATION CONTACT: Mr. Chad Peek, Chief Privacy Officer, U.S. Railroad Retirement Board, 844 North Rush Street, Chicago, Illinois 60611-1275, telephone 312-751-3389 or email at chad.peek@rrb.gov.

SUPPLEMENTARY INFORMATION: In accordance with the Privacy Act of 1974, 5 U.S.C. 552a, and the Office of Management and Budget (OMB), Circular No. A-108, the U.S. Railroad Retirement Board (RRB) has completed a review of its Privacy Act systems of records and proposes to modify a current RRB system of records titled RRB-42, Overpayment Accounts. The proposed modification to the system of records pursuant to 5 U.S.C. 552a(b)(3) adds the following categories of users to its Routine Uses section: Congressional representatives, contractors working for the federal government, law enforcement, other federal agencies and entities pertaining to breach notification, National Archives, and attorney representatives.

Dated: December 3, 2025
By Authority of the Board.
Stephanie Hillyard,
Secretary to the Board.

SYSTEM NAME AND NUMBER:

RRB-42, Overpayment Accounts.

SECURITY CLASSIFICATION:

Unclassified.

SYSTEM LOCATION:

U.S. Railroad Retirement Board, 844 North Rush Street, Chicago, Illinois 60611-1275.

SYSTEM MANAGER(S):

Salary overpayments: Director, General Services Administration National Payroll Center, Attention: 6BCY, 1500 Bannister Road, Kansas City, Missouri 64131-3088.

Benefit overpayments: Chief Financial Officer, U.S. Railroad Retirement Board, 844 North Rush Street, Chicago, Illinois 60611-1275.

AUTHORITY FOR MAINTENANCE OF THE SYSTEM:

Section 7(b)(6) of the Railroad Retirement Act of 1974 (45 U.S.C. 231f(b)(6)); Section 12(l) of the Railroad Unemployment Insurance Act (45 U.S.C. 362(l)); Public Law 97-92 (Joint Resolution); Public Law 97-365 (Debt Collection Act of 1982); Federal Claims Collection Act (31 U.S.C. 3701 et. seq.); Public Law 104-134 (Debt Collection Improvement Act of 1996); Public Law 111-204 (Improper Payments Elimination and Recovery Act); Public Law 113-101 (The Digital Accountability and Transparency Act); 5 U.S.C. 5514, and 20 CFR 361.

PURPOSE(S) OF THE SYSTEM:

The records in this system are created, monitored and maintained to enable the Railroad Retirement Board to fulfill regulatory and statutory fiduciary responsibilities to its trust funds, the individuals to whom it pays salaries or benefits and the federal government as directed under the Railroad Retirement Act, Railroad Unemployment Insurance Act, Debt Collection Act of 1982, the Debt Collection Improvement Act of 1996, and the Digital and Transparency Act of 2014. These responsibilities include accurate and timely determination of debt; sending timely, accurate notice of the debt with correct repayment and rights options; taking correct and timely action when rights/appeals have been requested; assessing appropriate charges; using all appropriate collection tools, releasing required, accurate reminder notices; and correctly and timely entering all recovery, write-off, and waiver offsets to debts.

CATEGORIES OF INDIVIDUALS COVERED BY THE SYSTEM:

Individuals or businesses who were overpaid in the salaries or benefits they received from the Railroad Retirement Board. Benefits overpaid are further delineated in the following two categories:

—Individuals or businesses overpaid the following types of annuities or benefits payable under the Railroad Retirement Act: retirement, disability, supplemental, and survivor.

—Individuals overpaid unemployment or sickness insurance benefits payable under the Railroad Unemployment Insurance Act.

CATEGORIES OF RECORDS IN THE SYSTEM:

Name, address, Social Security number, claim number, electronic mail address, whether salary or benefit and if benefit type of benefit previously paid, amount of overpayment, debt identification number, cause of overpayment, source of overpayment, original debt amount, current balance of debt, installment repayment history, recurring accounts receivable administrative offset history, waiver, reconsideration and debt appeal status, general billing, dunning, referral, collection, and payment history, amount of interest and penalties assessed and collected, name of federal agency to which account is referred for collection, date of such referral and amount collected.

RECORD SOURCE CATEGORIES:

Salary overpayments: General Services Administration maintains RRB salary records, including records of amounts overpaid to U.S. Railroad Retirement. The RRB also maintains salary overpayment records in folders and other RRB systems of records. Benefit overpayments: U.S. Railroad Retirement Board beneficiaries' overpayment records are contained in claim folders, the RRB's accounts receivable system, and other RRB systems of records.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside RRB as a routine use pursuant to 5 U.S.C. 552a(b)(3) as follow:

a. Disclosure may be made to a congressional office from the record of an individual in response to an inquiry from the congressional office made at the request of that individual if that individual would not be denied access to the information.

b. Disclosure may be made to contractors, grantees, experts, consultants, students, and others performing or working on a contract, service, grant, cooperative agreement, or other assignment for RRB, to the extent necessary to accomplish an RRB function related to this system of records.

c. Disclosure may be made to the appropriate agency, whether federal, state, local, or foreign, charged with the responsibility of investigating, enforcing, or prosecuting a violation or potential violation of law, whether civil, criminal or regulatory in nature, and whether arising by general statute or particular program statute, or by regulation, rule or order issued pursuant thereto, or charged with enforcing or implementing the statute, rule, regulation, or order issued pursuant thereto, if the disclosure would be to an agency engaged in functions related to the Railroad Retirement Act or the Railroad Unemployment Insurance Act, or if disclosure would be clearly in the furtherance of the interest of the subject individual.

d. To another federal agency or federal entity, when the U.S. Railroad Retirement Board determines that information from this system of records is reasonably necessary to assist the recipient agency or entity in (1) responding to a suspected or confirmed breach or (2) preventing, minimizing, or remedying the risk of harm to individuals, the recipient agency or entity (including its information systems, programs, and operations), the federal government, or national security, resulting from a suspected or confirmed breach.

e. To appropriate agencies, entities, and persons when (1) the U.S. Railroad Retirement Board suspects or has confirmed that there has been a breach of the system of records; (2) the U.S. Railroad Retirement Board has determined that as a result of the suspected or confirmed breach there is a risk of harm to individuals, the U.S. Railroad Retirement Board (including its information systems, programs, and operations), the federal government, or national security; and (3) the disclosure made to such agencies, entities, and persons is reasonably necessary to assist in connection with the U.S. Railroad Retirement Board's efforts to respond to the suspected or confirmed breach or to prevent, minimize, or remedy such harm.

f. Disclosure may be made to the National Archives and Records Administration or other federal government agencies for records management inspections being conducted under the authority of 44 U.S.C. 2904 and 2906.

g. Disclosure of non-medical information in this system of records may be made to the attorney representing such individuals upon receipt of a written letter or declaration stating the fact of representation, if that individual would not be denied access to the information. Medical information may be released to an attorney when such records are requested for the purpose of contesting a determination either administratively or judicially.

h. Benefit overpayment amounts, history of collection actions and efforts, and personally identifiable information (name, address, Social Security number, railroad retirement claim number, etc.) may be disclosed to agencies of the federal government for the purpose of recovering delinquent debts.

i. Federal salary overpayment amounts, history of collection actions and efforts, and personally identifiable information (name, address, Social Security number, etc.) may be disclosed to agencies of the federal government for the purpose of recovering delinquent debts.

j. Personally identifiable information pertaining to delinquent benefit and federal salary overpayments may be disclosed to the Department of the Treasury, Financial Management Service (FMS), for the purpose of collecting through cross-servicing and offset of federal payments. FMS may disclose this personally identifiable information to other agencies to conduct computer matching programs to identify and locate delinquent debtors who are receiving federal salaries or benefit payments. FMS may refer these delinquent accounts and disclose pertinent information to other federal agencies and private collection agencies for the purpose of collection.

k. Personally identifiable information may be released to any federal agency for the purpose of enabling such agency to collect debts on the RRB's behalf.

l. Information from the record of the individual concerning their benefit or anticipated benefit and concerning the method of calculating that benefit may be disclosed to an official of a labor organization of which the individual is a member, if the disclosure is made at the request of, and on behalf of, the individual.

m. Records may be disclosed to the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

POLICIES AND PRACTICES FOR STORAGE OF RECORDS:

Paper records will be stored in file cabinets or at approved National Archives and Records Administration records centers. Electronic records are maintained on computer servers, computer hard drives, electronic databases, email, and FedRAMP approved cloud information systems.

POLICIES AND PRACTICES FOR RETRIEVAL OF RECORDS:

Salary overpayments retrievable by Social Security number and name. Benefit overpayments retrievable by Social Security number, Railroad Retirement claim number, name, and debt identification number.

POLICIES AND PRACTICES FOR RETENTION AND DISPOSAL OF RECORDS:

Paper: Documents, with benefit overpayment data, are shredded three years after receipt. These records are identified and destroyed annually.

Electronic media: Storage drives and IBM zCloud storage: Continually updated and permanently retained. When storage drives and IBM zCloud storage or other electronic media are no longer serviceable, they are sanitized in accordance with NIST guidelines.

ADMINISTRATIVE, TECHNICAL, AND PHYSICAL SAFEGUARDS:

Salary overpayment records are maintained at the General Services Administration under safeguards equal to those of the U.S. Railroad Retirement Board (see GSA Systems of Records Notice: GSA-PPFM-9).

Benefit overpayment records:

Paper: Maintained in areas not accessible to the public in locking filing cabinets. Access is limited to authorized RRB employees. Offices are locked during non-business hours. The building has 24-hour on-site security officers, closed circuit television monitoring and intrusion detection systems.

Electronic media: Computer and computer storage rooms are restricted to authorized personnel; on-line query safeguards include a lock/unlock password system, a terminal oriented transaction matrix, role-based access controls and audit trail. For electronic records, system securities are established in accordance with the National Institute of Standards and Technology (NIST) guidelines, including network monitoring, defenses in-depth, incident response and forensics. In addition to the on-line query safeguards, they include encryption of all data transmitted and exclusive use of leased telephone lines.

RECORD ACCESS PROCEDURES:

Under 5 U.S.C. 552a (Privacy Act of 1974), individuals have the right to access and contest records maintained about them. To access or amend your records, submit a written request to the Railroad Retirement Board (RRB) with:

1. Your identifying information.

2. A description of the record you wish to access.

The RRB may request proof of identity. To correct a record, specify the change and provide justification. If denied, you can submit a statement of disagreement to be included with the record.

CONTESTING RECORD PROCEDURES:

For additional instructions, see the Record Access Procedures and Notification Procedures sections.

NOTIFICATION PROCEDURES:

Requests for information regarding an individual's salary overpayment record should be in writing addressed to the Director, General Services Administration National Payroll Center at the address above. Requests for information regarding an individual's or business' benefit overpayment record should be in writing addressed to the System Manager identified above, including the full name, claim number, and Social Security number of the individual. Before information about any record is released, the System Manager may require the individual to provide proof of identity or require the requester to furnish an authorization from the individual to permit release of information.

EXEMPTIONS PROMULGATED FOR THE SYSTEM:

None.

HISTORY:

System of Records Notice revision from previous September 30, 2014 Federal Register notice 79 FR 58896.

[FR Doc. 2025-22049 Filed 12-4-25; 8:45 am]

BILLING CODE 7905-01-P